DEPARTMENT OF AGRICULTURE

Food and Nutrition Service

Agency Information Collection Activities: Proposed Collection; Comment Request—Food Stamp Nutrition Education Systems Review

AGENCY: Food and Nutrition Service, USDA.

ACTION: Notice.

SUMMARY: In accordance with the Paperwork Reduction Act of 1995, this notice announces the Food and Nutrition Service's (FNS) intent to request approval from the Office of Management and Budget (OMB) for a new information collection from State officials, as well as from implementing agency, partnering agency, and local project staff administering Food Stamp Program nutrition education (FSNE) efforts. This information will be used to gain a comprehensive understanding of the administration and activities of the various nutrition education programs currently provided to the food stamp population. It will also help plan the direction of FSNE activities and practices in the future.

DATES: Written comments on this notice must be received on or before June 28, 2004 to be assured consideration.

ADDRESSES: Send comments to Kristen Dowling Hyatt, Project Officer, Office of Analysis, Nutrition, and Evaluation, Food and Nutrition Service, USDA, 3101 Park Center Drive, Suite 1014, Alexandria, Virginia, 22302. Submit electronic comments to kristen.hyatt@fns.usda.gov.

Pursuant to the Paperwork Reduction Act of 1995 (44 U.S.C. 3507), comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including the use of appropriate, automated, electronic, mechanical, or other technological collection techniques or other forms of information technology.

All comments will be summarized and included in the request for OMB approval of the information collection. All comments will become a matter of public record.

FOR FURTHER INFORMATION CONTACT: Requests for additional information should be directed to Kristen Dowling Hyatt, (703) 305-2135.

SUPPLEMENTARY INFORMATION: Title: Food Stamp Nutrition Education Systems Review.

OMB Number: Not yet assigned.

Expiration Date: To be determined.

Type of Request: New collection of information.

Abstract: As the cornerstone of the USDA nutrition assistance programs, the Food Stamp Program (FSP) plays a vital role in helping to protect the nutrition, health, and well being of over 23 million low-income Americans. Under current FSP regulations (7 CFR 272.2), State food stamp agencies have the option to include nutrition education for program participants as part of their administrative operations. The goal of food stamp nutrition education (FSNE) is to increase the likelihood that food stamp recipients make healthy food choices and choose an active lifestyle consistent with the principles of the Dietary Guidelines for Americans and the Food Guide Pyramid.

State food stamp agencies that choose to participate in FSNE submit an annual food stamp nutrition education plan to FNS outlining their intended activities and budget for the upcoming year. USDA reimburses States with approved plans for 50 percent of the allowable administrative costs actually expended on FSNE operations. While State food stamp agencies are responsible for submitting a single FSNE plan, services are generally provided through agreements with one or more “implementing agencies” that develop and deliver the nutrition education. The State Cooperative Extension Service is the predominant implementing agency; however, public health departments, public assistance agencies, and university academic centers also sponsor FSNE. Implementing agencies usually deliver nutrition education to food stamp recipients through local organizations or projects. They may also develop collaborative relationships with community and private agencies, and other FNS-funded programs such as the Special Supplemental Nutrition Program for Women, Infants and Children (WIC), generally referred to as “program partners.”

The scale of FSNE has grown considerably since the Food Stamp Nutrition Education Study, a descriptive study of FSNE operations in fiscal year (FY) 1997. The number of State food stamp agencies that applied and received approval for Federal reimbursement of nutrition education activities increased from 37 in FY 1997 to 50 in FY 2003. Federal funds approved for FSNE grew from $32 million in FY 1997 to over $192 million in FY 2003.

In addition to the continued growth of FSNE, several other factors have converged making it necessary for FNS to update and develop a more in-depth understanding of FSNE operations. These include: The use of new approaches to nutrition education; interest in the effectiveness of FSNE and the quality of services delivered; limited information on the diversity of FSNE activities given the flexibility of States to design a variety of programs and operate them in a decentralized manner; the lack of detailed information on spending and progress in meeting FSNE goals and objectives; and the high level of agency and public interest in improving diets and reducing the prevalence of overweight and obesity.

The purpose of this proposed information collection is two-fold: (1) To provide a comprehensive and systematic picture of nutrition education activities in the FSP in FY 2004; and (2) to identify patterns with relevance for future FSNE planning. The information collected is expected to be useful in increasing FNS' oversight capacity and improving accountability in the program, as well as identifying specific nutrition education issues or technical assistance needs that FNS can address in the future.

The Food Stamp Nutrition Education Systems Review will collect data in the following FSNE domains: organization and administration; program planning and decision-making; program implementation, including nutrition education messages, delivery and target audiences; monitoring and evaluation; and funding issues. The study will draw on three main sources of data: (1) Existing State FSNE plan documents for FY 2004, (2) Internet-based surveys of key staff from State food stamp agencies and FSNE implementing agencies, and (3) on-site interviews with staff from State food stamp agencies, implementing agencies, local projects, and program partners.

The sample frame for the study will include all State agencies expected to have approved FSNE Plans for FY 2004 (including the District of Columbia and the Virgin Islands). Contractor staff will abstract the necessary information from FY 2004 State FSNE plans and agency web sites to identify the universe of FSNE implementing agencies in these States. The Internet-based surveys will be a census of all 52 State food stamp agencies and approximately 93 implementing agencies. A systematic representative sample of implementing agencies will be selected for on-site data collection, after stratifying by type of implementing agency and FNS region. Types of implementing agencies include the traditional Cooperative Extension Services, nutrition networks, and other organizational structures. This is expected to result in a sample of about 34 implementing agencies in approximately 29 States. In consultation with each sampled implementing agency, 2 to 4 local project sites will be selected for site visits. Selection criteria will focus on capturing diversity in a variety of areas, including the target audience, geographical location, size and tenure of the program, and approaches to nutrition education.

The study and its data collection methodologies have been designed to minimize respondent burden wherever possible without compromising data quality. The use of a secure Internet site for survey administration will permit respondents to provide information at a time (or times) that is convenient to them. Respondents who do not have Internet access will be interviewed by telephone. In addition, all in-person interviews will be scheduled in advance in an effort to accommodate respondents' schedules. All survey questions will be kept as simple and respondent-friendly as possible. Maximum use will also be made of existing data from public sources.

Responses to all questions will be voluntary. The contractor will take the following steps to treat the data provided in a confidential manner: (1) Potentially sensitive survey data and all information collected in on-site interviews will be combined with other data and reported only in aggregate or statistical form, and (2) no data will be released in a form that identifies individual respondents by name. Respondents will be notified of these confidentiality measures by letter and in the Internet surveys.

Affected Public: Staff from State food stamp agencies, and other State agencies, implementing agencies, and local projects collaborating with the FSP to provide FSNE.

Estimated Number of Respondents: Internet-based surveys: 52 State FSP administrators, 52 State FSP budget directors, 93 implementing agency directors, and 93 implementing agency budget officers.

On-site interviews: 29 State FSP administrators; 29 State FSP budget directors; 34 implementing agency directors; 34 implementing agency budget officers; 11 implementing agency senior administrators; 34 program partner directors (e.g., WIC directors); 112 local project directors; 112 local project budget officers; 336 local project instructors; and 112 local partner providers.

Number of Responses per Respondent: 1.

Total Number of Annual Responses: 1,133.

Estimated Time Per Response: All burden estimates include time to prepare for and complete the survey or interview. Internet-based survey: State FSP administrators, 1 hour; State FSP budget directors, 0.5 hour; implementing agency directors, 2 hours; and implementing agency budget officers, 2 hours.

On-site interviews: State FSP administrators, 2 hours; State FSP budget directors, 2 hours; implementing agency directors, 4 hours; implementing agency budget officers, 3 hours; implementing agency senior administrators, 1 hour; program partner directors, 1 hour; local project directors, 2 hours; local project budget officers, 1 hour; local project instructors, 1 hour; and local partner providers, 1 hour.

Estimated Total Annual Burden: Total of 1,633 hours, including: State FSP administrators, 110 hours; State FSP budget directors, 84 hours; implementing agency directors, 322 hours; implementing agency budget officers, 288 hours; implementing agency senior administrators, 11 hours; program partner directors, 34 hours; local project directors, 224 hours; local project budget officers, 112 hours; local project instructors, 336 hours; and local partner providers, 112 hours.

Dated: April 21, 2004.
Roberto Salazar,
Administrator.

[FR Doc. 04-9553 Filed 4-26-04; 8:45 am]

BILLING CODE 3410-30-P